DEPARTMENT OF COMMERCE

National Oceanic and Atmospheric Administration

[RTID 0648-XB567]

Endangered and Threatened Species; Take of Anadromous Fish

AGENCY: National Marine Fisheries Service (NMFS), National Oceanic and Atmospheric Administration (NOAA), Commerce.

ACTION: Notice of availability; proposed evaluation and pending determinations for five resource management plans in the Hood Canal Basin.

SUMMARY: Notice is hereby given that NMFS has drafted Proposed Evaluation and Pending Determinations (PEPD) for five resource management plans (RMPs) for the rearing and releasing Chinook salmon, coho salmon, and chum salmon, and for research of Puget Sound Steelhead in the Hood Canal Basin of Washington State. The RMPs are in the form of hatchery and genetic management plans (HGMPs) for hatchery programs operated by Long Live the Kings (LLTK), the Port Gamble S'Klallam Tribe (PGST), the Skokomish Tribe (ST), and Washington Department of Fish and Wildlife (WDFW). In 2016 NMFS certified that the five HGMPs satisfied limit 6 of the 4(d) rule. The revised HGMPs will replace the versions of the same plans now in place. NMFS is notifying the public of the availability and opportunity to comment on PEPDs for the new programs. The hatchery programs are intended to contribute to fulfilling Federal tribal trust responsibilities and treaty rights guaranteed through treaties and affirmed in U.S. v. Washington (1974). The program operators submitted revised HGMPs for the following changes: (1) Improve the available forage to southern resident killer whales; and (2) investigate genetic diversity of Puget Sound Steelhead and the effects of release timing on marine survival of fall Chinook salmon.

DATES: Comments must be received at the appropriate address (see ADDRESSES) no later than 5 p.m. Pacific time on December 10, 2021. Comments received after this date may not be considered.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email comment the following identifier: Comments on Hood Canal hatchery programs.

FOR FURTHER INFORMATION CONTACT: Scott Sebring at (360) 819-7873 or by email at scott.sebring@noaa.gov.

SUPPLEMENTARY INFORMATION:

Endangered Species Act (ESA)-Listed Species Covered in This Notice

• Puget Sound Chinook salmon (Oncorhynchus tshawytscha): Threatened, naturally and artificially propagated;

• Puget Sound Steelhead (O. mykiss): Threatened, naturally and artificially propagated; and

• Hood Canal summer chum salmon (O. keta): Threatened.

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under the 4(d) rule for salmon and steelhead (50 CFR 223.203(b)).

The operators and funding agencies, including the LLTK, PGST, ST, and WDFW, have submitted revised HGMPs to NMFS pursuant to NMFS' 4(d) rule of the ESA for hatchery activities. The operators propose to provide additional forage to southern resident killer whales, a species listed as endangered under the ESA that relies on adult salmon as a food resource. The operators of the Hood Canal steelhead supplementation program propose to investigate genetic effects of natural-origin steelhead dispersal throughout the Hood Canal Basin. The operators of the Hoodsport fall Chinook salmon program propose to investigate the effects of release timing on survival of adult fall Chinook salmon, a non-ESA-listed stock.

Authority: 16 U.S.C. 1531 et seq.; 16 U.S.C. 742a et seq.

Dated: November 5, 2021.
Angela Somma,
Chief, Endangered Species Conservation Division, Office of Protected Resources, National Marine Fisheries Service.

[FR Doc. 2021-24572 Filed 11-9-21; 8:45 am]

BILLING CODE 3510-22-P